DEPARTMENT OF COMMERCE

International Trade Administration

[A-570-908]

Sodium Hexametaphosphate from the People's Republic of China: Final Results of Antidumping Duty Administrative Review; 2011-2012

AGENCY: Import Administration, International Trade Administration, Department of Commerce.

SUMMARY: On December 7, 2012, the Department of Commerce (the “Department”) published the Preliminary Results of the third administrative review of sodium hexametaphosphate from the People's Republic of China (“PRC”).¹ We gave interested parties an opportunity to comment on the Preliminary Results. No party commented on the Preliminary Results.

¹ See Sodium Hexametaphosphate from the People's Republic of China: Preliminary Results of Antidumping Duty Administrative Review; 2011-2012, 77 FR 73011 (December 7, 2012) (“Preliminary Results”).

DATES: Effective Date: March 28, 2013.

FOR FURTHER INFORMATION CONTACT: Paul Walker, AD/CVD Operations, Office 9, Import Administration, International Trade Administration, U.S. Department of Commerce, 14th Street and Constitution Avenue NW, Washington, DC 20230; telephone: 202.482.0413.

SUPPLEMENTARY INFORMATION:

Scope of the Order

The scope of this order consists of sodium hexametaphosphate.² The merchandise subject to this order is currently classifiable in the Harmonized Tariff Schedule of the United States (“HTSUS”) statistical reporting number 2835.39.5000. However, it may also be imported as a blend or mixture under heading 3824.90.3900. Although the HTSUS subheadings are provided for convenience and customs purposes, the written product description, available in the Order remains dispositive.³

² See “Decision Memorandum for Preliminary Results of Antidumping Duty Administrative Review: Sodium Hexametaphosphate from the People's Republic of China,” from Christian Marsh, Deputy Assistant Secretary for Antidumping and Countervailing Duty Operations to Paul Piquado, Assistant Secretary for Import Administration, dated November 29, 2012 (“Preliminary Decision Memorandum”).

³ See Notice of Antidumping Duty Order: Sodium Hexametaphosphate from the People's Republic of China, 73 FR 14772 (March 19, 2008) (“Order”).

Final Finding of No Shipments

As noted in the Preliminary Results, because Hubei Xingfa Chemical Group Co., Ltd. (“Hubei Xingfa”) and Sichuan Mianzhu Norwest Phosphate Co. (“Norwest”) submitted timely no-shipment certifications and U.S. Customs and Border Protection (“CBP”) data indicated that there were no reviewable transactions for these companies during the period of review (“POR”), we determined that Hubei Xingfa and Norwest had no reviewable transactions of subject merchandise and retained their separate rate from the previous administrative review.⁴ As no information, or argument, has been placed on the record to challenge these findings, for the final results we continue to find that Hubei Xingfa and Norwest had no reviewable transactions of subject merchandise, and thus, have retained their separate rate from the previous administrative review.

⁴ See Preliminary Results, 77 FR at 73011-12; see also Preliminary Decision Memorandum at 2-3.

PRC-Wide Entity

As noted in the Preliminary Results, there are 13 other companies also under review in this segment, none of which have a separate rate from a prior segment of this proceeding.⁵ As no information, or argument, has been placed on the record to challenge these findings, for the final results we continue to find that these companies have not established their eligibility for a separate rate, and they will continue to be considered part of the PRC-wide entity.

⁵ See Preliminary Results, 77 FR at 73012.

Final Results of Review

The weighted-average dumping margins for the POR are as follows:

⁶ The PRC-wide entity includes Aditya Birla Chemicals (Thailand) Ltd., Anhui Technology Import & Export Co., Ltd., Anshan Career Economic Trade Co., Ltd., Blue Science Limited, Boon Stream Chemical International Trade, Chengdu Boon Stream Chemical Industry Co., Ltd., Dezhou Hualude Hardware Products Co. Ltd., Gatehouse International Freight Ltd., Henan Sinchems Imp and Exp Co., Ltd., Hubei Xingfa Chemical Export Import Co. Ltd., Rushan Wooyoung Trading Co., Ltd., Unison Chemical Industrial Co, Ltd. and Zhejiang Chun-an Foreign Trade Co.

Exporter | Weighted- average dumping margin (percent)
PRC-wide Entity ⁶ | 188.05

Assessment

Upon issuance of the final results, the Department will determine, and CBP shall assess, antidumping duties on all appropriate entries. The Department intends to issue assessment instructions to CBP 15 days after the date of publication of the final results of review. The Department recently announced a refinement to its assessment practice in NME cases. Pursuant to this refinement in practice, for entries that were not reported by companies examined during this review, the Department will instruct CBP to liquidate such entries at the NME-wide rate. In addition, if the Department determines that an exporter under review had no shipments of the subject merchandise, any suspended entries that entered under that exporter's case number (i.e., at that exporter's rate) will be liquidated at the NME-wide rate.⁷

⁷ See Non-Market Economy Antidumping Proceedings: Assessment of Antidumping Duties, 76 FR 65694 (October 24, 2011).

Cash Deposit Requirements

The following cash deposit requirements will be effective upon publication of the final results of this administrative review for shipments of the subject merchandise from the PRC entered, or withdrawn from warehouse, for consumption on or after the publication date, as provided by sections 751(a)(2)(C) of the Tariff Act of 1930, as amended (the “Act”): (1) For previously investigated or reviewed PRC and non-PRC exporters not listed above that received a separate rate in a prior segment of this proceeding, the cash deposit rate will continue to be the existing exporter-specific rate; (2) for all PRC exporters of subject merchandise that have not been found to be entitled to a separate rate, the cash deposit rate will be that for the PRC-wide entity; and (3) for all non-PRC exporters of subject merchandise which have not received their own rate, the cash deposit rate will be the rate applicable to the PRC exporter that supplied that non-PRC exporter. These deposit requirements, when imposed, shall remain in effect until further notice.

Reimbursement of Duties

This notice also serves as a final reminder to importers of their responsibility under section 351.402(f) of the Department's regulations to file a certificate regarding the reimbursement of antidumping duties prior to liquidation of the relevant entries during this POR. Failure to comply with this requirement could result in the Department's presumption that reimbursement of antidumping duties has occurred and the subsequent assessment of doubled antidumping duties.

Administrative Protective Orders

This notice also serves as a reminder to parties subject to administrative protective order (“APO”) of their responsibility concerning the return or destruction of proprietary information disclosed under APO in accordance with section 351.305 of the Department's regulations, which continues to govern business proprietary information in this segment of the proceeding. Timely written notification of the return/destruction of APO materials or conversion to judicial protective order is hereby requested. Failure to comply with the regulations and terms of an APO is a violation which is subject to sanction.

We are issuing and publishing this administrative review and notice in accordance with sections 751(a)(1) and 777(i) of the Act.

Dated: March 21, 2013.
Paul Piquado,
Assistant Secretary for Import Administration.

[FR Doc. 2013-07254 Filed 3-27-13; 8:45 am]

BILLING CODE 3510-DS-P